NATIONAL AERONAUTICS AND SPACE ADMINISTRATION

[NOTICE (20-064)]

Name of Information Collection: NASA Electronic Health Record System (EHRS)

AGENCY: National Aeronautics and Space Administration (NASA).

ACTION: Notice of information collection—Renewal of Existing Information Collection.

SUMMARY: The Office of Chief Health and Medical Officer (OCHMO), within the National Aeronautics and Space Administration (NASA), as part of its continuing effort to reduce paperwork and respondent burden, invites the general public and other Federal agencies to take this opportunity to comment on proposed and/or continuing information collections.

DATES: Comments are due by September 3, 2020.

ADDRESSES: All comments should be addressed to Roger Kantz, National Aeronautics and Space Administration, 300 E Street SW, Washington, DC 20546-0001.

FOR FURTHER INFORMATION CONTACT: Requests for additional information or copies of the information collection instrument(s) and instructions should be directed to Roger Kantz, NASA Clearance Officer, NASA Headquarters, 300 E Street SW, JF0000, Washington, DC 20546 or email Roger.T.Kantz@nasa.gov.

SUPPLEMENTARY INFORMATION:

I. Abstract

This collection of information includes standard use of Electronic Health Record System (EHRS) under NASA 10 HIMS regulations at all NASA Occupational Health (OH) clinics by authorized healthcare providers assigned to, employed by, contracted to, or under partnership agreement with NASA facilities. This EHRS is used in support of the NASA Occupational Health Program to generate medical records of medical care, diagnosis, treatment, surveillance examinations (e.g., flight certification, special purpose and health maintenance), and exposure records (e.g., hazardous materials and ionizing radiation).

Management and utilization of the EHRS at NASA clinics is carried out to implement the necessary supportive clinical services for each visit to the OH clinics. The OH clinics create, maintain and securely archive digital medical records and physical examination records of on (1) NASA civil service employees and applicants; (2) other Agency civil service and military employees working at NASA; (3) active or retired astronauts and active astronaut family members; (4) International Space Partner personnel, their families, or other space flight personnel on temporary or extended duty at NASA; (5) onsite contractor personnel who receive job-related examinations under the NASA Occupational Health Program, have work-related mishaps or accidents, or visit clinics for emergency or first-aid treatment; and (6) visitors to NASA Centers who use clinics for emergency or first-aid treatment or who apply for use of NASA facilities. The legal medical record is the documentation of health care services provided to an individual; it is used for clinical decision making, following accurate recording of observations, actions and analysis of diagnostic tests. The legal medical record in this instance is digital recorded data collected and used for providing healthcare at the NASA OH clinics. Additionally, the medical record is used as a tool for evaluating the adequacy, appropriateness and quality of care.

Such records contain standard clinical information resulting from physical examinations, laboratory and other relevant diagnostic tests, and medical history surveys; screening examination results; immunization records; administration of medications prescribed by private/personal or NASA physicians; consultation records; and hazardous exposure as well as other health hazard/abatement data.

NASA collects, archives, and secures information from individuals visiting the OH clinics requiring routine medical examination in compliance with the following regulations:

• 2015 Joint Commission (JC) Standards for Ambulatory Care IM.01.01.01, IM.02.01.03, IM.02.02.01, IM.02.02.03

• NASA Procedural Requirements, NPR 1800.1C.

• NASA Records Retention Schedules NRRS 1441.1.

• 5 U.S.C. 552a, Privacy Act, 1974.

• 42 U.S.C. 2472; 44 U.S.C. 3101; Public Law 92-255.

• NIST SP 800-53 revision 4, Recommended Security Controls for Federal Information Systems.

• NIST SP 800-53A, Techniques and Procedures for Verifying the Effectiveness of Security Controls in Federal Information Systems.

• NPR 2810.1, Security of Information Technology.

II. Methods of Collection

Electronic and optionally by paper.

III. Data

Title: NASA Electronic Health Record System (EHRS).

OMB Number: 2700-xxxx.

Type of Review: Renewal of Existing Information Collection.

Affected Public: Individuals.

Estimated Annual Number of Activities: 63,260.

Estimated Number of Respondents per Activity: 1.

Annual Responses: 63,260.

Estimated Time per Response: 0.5 hours.

Estimated Total Annual Burden Hours: 31,630.

Estimated Total Annual Cost: $819,217.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Roger Kantz,
NASA PRA Clearance Officer.

[FR Doc. 2020-16863 Filed 8-3-20; 8:45 am]

BILLING CODE 7510-13-P